DEPARTMENT OF TRANSPORTATION

Coast Guard

[USCG 2002-11351]

Information Collection Under Review by the Office of Management and Budget (OMB): 2115-0539, 2115-0504, 2115-0576, 2115-0581, and 2115-0626

AGENCY: Coast Guard, DOT.

ACTION: Request for comments.

SUMMARY: In compliance with the Paperwork Reduction Act of 1995, this request for comments announces that the Coast Guard has forwarded the five Information Collection Reports (ICRs) abstracted below to the Office of Information and Regulatory Affairs (OIRA) of the Office of Management and Budget (OMB) for review and comment. Our ICRs describe the information we seek to collect from the public. Review and comment by OIRA ensures that we impose only paperwork burdens commensurate with our performance of duties.

DATES: Please submit comments on or before July 3, 2002.

ADDRESSES: To make sure that your comments and related material do not enter the docket [USCG 2002-11351] more than once, please submit them by only one of the following means:

(1)(a) By mail to the Docket Management Facility, U.S. Department of Transportation, room PL-401, 400 Seventh Street SW., Washington, DC 20590-0001. (b) By mail to OIRA, 725 17th Street NW., Washington, DC 20503, to the attention of the Desk Officer for the Coast Guard. Caution: Because of recent delays in the delivery of mail, your comments may reach the Facility more quickly if you choose one of the other means described below.

(2)(a) By delivery to room PL-401 at the address given in paragraph (1)(a) above, between 9 a.m. and 5 p.m., Monday through Friday, except Federal holidays. The telephone number is 202-366-9329. (b) By delivery to OIRA, at the address given in paragraph (1)(b), above, to the attention of the Desk Officer for the Coast Guard.

(3) By fax to (a) the Docket Management Facility at 202-493-2251 and (b) OIRA at 202-395-5806, or e-mail to OIRA at oira_docket@omb.eop.gov attention: Desk Officer for the Coast Guard.

(4)(a) Electronically through the Web Site for the Docket Management System at http://dms.dot.gov. (b) OIRA does not have a website on which you can post your comments.

The Docket Management Facility maintains the public docket for this notice. Comments and material received from the public, as well as documents mentioned in this notice as being available in the docket, will become part of this docket and will be available for inspection or copying at room PL-401 (Plaza level), 400 Seventh Street SW., Washington, DC, between 9 a.m. and 5 p.m., Monday through Friday, except Federal holidays. You may also find this docket on the Internet at http://dms.dot.gov.

Copies of the complete ICRs are available for inspection and copying in public dockets. They are available in docket USCG 2002-11351 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION:

Regulatory History

This request constitutes the 30-day notice required by OIRA. The Coast Guard has already published (67 FR 3774 (January 25, 2002)) the 60-day notice required by OIRA. That notice elicited no comments.

Request for Comments

The Coast Guard invites comments on the proposed collection of information to determine whether the collection is necessary for the proper performance of the functions of the Department. In particular, the Coast Guard would appreciate comments addressing: (1) The practical utility of the collection; (2) the accuracy of the Department's estimated burden of the collection; (3) ways to enhance the quality, utility, and clarity of the information that is the subject of the collection; and (4) ways to minimize the burden of collection on respondents, including the use of automated collection techniques or other forms of information technology.

Comments, to DMS or OIRA, must contain the OMB Control Number of the ICR addressed. Comments to DMS must contain the docket number of this request, USCG 2002-11351. Comments to OIRA are best assured of having their full effect if OIRA receives them 30 or fewer days after the publication of this request.

Information Collection Request

1. Title: Requirements for Lightering of Oil and Hazardous Material.

OMB Control Number: 2115-0539.

Type of Request: Extension of a currently approved collection.

Affected Public: Owners and operators of vessels.

Forms: This collection of information does not require the public to fill out forms, but does require the information to be in written or spoken form. Advance notices of offshore lightering are most commonly given by telephone, marine radio, or fax.

Abstract: The information for this report allows the Coast Guard to provide timely response to an emergency and minimize the environmental damage from a spill of oil or hazardous material. The information also allows the Coast Guard to control the location and procedures for lightering.

Annual Estimated Burden Hours: The estimated burden is 228 hours a year.

2. Title: Letters of Tank Vessel Examination, Certificates of Compliance, Repairs of Boilers and Pressure Vessels, Records of Cargo Gear, and Shipping Papers.

OMB Control Number: 2115-0504.

Type of Request: Extension of a currently approved collection.

Affected Public: Owners and operators of vessels.

Forms: CG-840S-1, CG-840S-2, and CG-3585.

Abstract: This information is needed to enable the Coast Guard to fulfill its responsibilities for maritime safety under title 46 of the United States Code. The affected public includes some owners and operators of large merchant vessels and all foreign-flag tankers calling at U.S. ports.

Annual Estimated Burden Hours: The estimated burden is 17,555 hours a year.

3. Title: Instructional Material for Lifesaving, Fire-Protection, and Emergency Equipment.

OMB Control Number: 2115-0576.

Type of Request: Extension of a currently approved collection.

Affected Public: Manufacturers of Equipment.

Forms: This collection of information does not require the public to fill out forms, but does require manufacturers to produce required instructional materials for certain lifesaving, fire-protection, and emergency equipment.

Abstract: This information is needed to ensure that vessel crews have instructional material for lifesaving, fire-protection, and emergency equipment. The material is used during training sessions and during emergencies. It is needed because crewmembers must have complete information on the proper operation of such equipment.

Annual Estimated Burden Hours: The estimated burden is 22,516 hours a year.

4. Title: Vapor Control Systems for Facilities and Tank Vessels.

OMB Control Number: 2115-0581.

Type of Request: Extension of a currently approved collection.

Affected Public: Owners, operators of facilities and tank vessels, and certifying entities.

Forms: This collection of information does not require the public to fill out forms, but does require facilities that have vapor-control systems (VCSs) to submit, to a Coast Guard's approved certifying entity, plans and technical information on those systems.

Abstract: The information is needed to ensure compliance with domestic rules for the design of VCSs for facilities and tank vessels. The information is also needed to determine the qualifications of a certifying entity.

Annual Estimated Burden Hours: The estimated burden is 1,073 hours a year.

5. Title: Alternate Compliance Program.

OMB Control Number: 2115-0626.

Type of Request: Extension of a currently approved collection.

Affected Public: Recognized classification societies.

Form: CG-3752.

Abstract: This information is used by the Coast Guard to assess vessels participating in the voluntary Alternate Compliance Program before issuance of a Certificate of Inspection.

Annual Estimated Burden Hours: The estimated burden is 150 hours a year.

Dated: May 24, 2002.
N.S. Heiner,
Acting Director of Information & Technology.

[FR Doc. 02-13756 Filed 5-31-02; 8:45 am]

BILLING CODE 4910-15-U